POSTAL REGULATORY COMMISSION

Facility Tours

AGENCY: Postal Regulatory Commission.

ACTION: Notice of Commission tours.

SUMMARY: On Wednesday afternoon, June 27, 2007, Postal Regulatory Commissioners and advisory staff members will tour California Community News production facilities in Irwindale, California. The purpose of the tour is to observe company operations.

DATES: June 27, 2007 (2:45 p.m.).

FOR FURTHER INFORMATION CONTACT: Ann C. Fisher, Chief of Staff, Postal Regulatory Commission, at 202-789-6803 or ann.fisher@prc.gov.

Steven W. Williams,
Secretary.

[FR Doc. 07-3107 Filed 6-25-07; 8:45 am]

BILLING CODE 7710-FW-M